DEPARTMENT OF THE INTERIOR

Fish and Wildlife Service

50 CFR Part 17

RIN 1018—AT88

Endangered and Threatened Wildlife and Plants; Proposed Designation of Critical Habitat for the Southwestern Willow Flycatcher

AGENCY: Fish and Wildlife Service, Interior.

ACTION: Proposed rule; notice of availability of draft economic analysis and draft environmental assessment, and notice of public hearings.

SUMMARY: We, the U.S. Fish and Wildlife Service (Service), announce the availability of the draft economic analysis and draft environmental assessment for the proposal to designate critical habitat for southwestern willow flycatcher (Empidonax traillii extimus) under the Endangered Species Act of 1973 (Act), as amended. The draft economic analysis considers the potential economic effects of efforts to protect the southwestern willow flycatcher and its habitat, collectively referred to as “flycatcher conservation activities.” In the case of habitat conservation, these costs would reflect the costs associated with the commitment of resources to comply with habitat protection measures. The analysis also addresses how potential economic impacts are likely to be distributed and looks retrospectively at costs that have been incurred since the date the species was listed. The draft economic analysis finds that over a 10-year time period costs associated with southwestern willow flycatcher conservation activities are forecast to range from $29.2 to $39.5 million per year. Comments previously submitted on the October 12, 2004, proposed rule (69 FR 60706) and the extensions of comment period published December 13, 2004 (69 FR 72161), or March 31, 2005 (70 FR 16474) need not be resubmitted as they have been incorporated into the public record and will be fully considered in preparation of the final rule. We will hold eight public informational sessions and hearings (see DATES and ADDRESSES sections).

DATES: Comments must be submitted directly to the Service (see ADDRESSES section) on or before May 31, 2005, or at the public hearings.

We will hold public informational sessions from 3:30 p.m. to 5 p.m., followed by a public hearing from 7 p.m. to 9 p.m., on the following dates:

1. May 2, 2005: Escondido, CA.

2. May 3, 2005: City of Chino, CA.

3. May 9, 2005: Las Vegas, NV.

4. May 10, 2005: Lake Isabella, CA.

5. May 16, 2005: Mesa, AZ.

6. May 17, 2005: Silver City, NM.

7. May 18, 2005: Albuquerque, NM.

8. May 19, 2005: Alamosa, CO.

ADDRESSES:

Meetings

The public informational sessions and hearings will be held at the following locations:

1. Escondido, CA: California Center for the Arts, 340 N. Escondido Blvd., Escondido, CA 92025.

2. City of Chino, CA: El Prado Golf Course, 6555 Pine Ave., Chino, CA 91710.

3. Las Vegas, NV: Cashman Center, 850 N. Las Vegas Blvd., Las Vegas, NV 89101.

4. Lake Isabella, CA: Lake Isabella Senior Center, Room 1, 6405 Lake Isabella Blvd., Lake Isabella, CA 93240.

5. Mesa, AZ: Mesa Community and Conference Center, 263 N. Center St., Mesa, AZ 85211.

6. Silver City, NM: Western New Mexico University, Global Resource Room, 1000 W. College, 12th and E St., Silver City, NM 88061.

7. Albuquerque, NM: Indian Pueblo Cultural Center, Special Events Center, 2401 12th St. NW., Albuquerque, NM 87104.

8. Alamosa, CO: Adams State University, Student Union Bldg., Rooms 308 & 309, First and Stadium Dr., Alamosa, CO 81102.

Persons needing reasonable accommodations in order to attend and participate in the public hearing should contact Steve Spangle, Field Supervisor, Arizona Ecological Services Field Office at the phone number and address below as soon as possible. In order to allow sufficient time to process requests, please call no later than 1 week before the hearing. Information regarding this proposal is available in alternative formats upon requests.

If you wish to comment on the proposed rule, draft economic analysis, or draft environmental assessment, you may submit your comments and materials by any one of several methods:

1. You may submit written comments and information by mail or hand-delivery to the Steve Spangle, Field Supervisor, Arizona Ecological Services Field Office, 2321 W. Royal Palm Road, Suite 103, Phoenix, Arizona 85021.

2. Written comments may be sent by facsimile to (602) 242-2513.

3. You may send your comments by electronic mail (e-mail) to WIFLcomments@fws.gov. For directions on how to submit electronic filing of comments, see the “Public Comments Solicited” section below.

You may obtain copies of the draft economic analysis and draft environmental assessment by mail or by visiting our Web site at http://arizonaes.fws.gov/SWWF_PCH_Oct.htm. You may review comments and materials received, and review supporting documentation used in preparation of this proposed rule by appointment, during normal business hours, at the above address.

FOR FURTHER INFORMATION CONTACT: Steve Spangle, Field Supervisor, Arizona Ecological Services Field Office (telephone 602-242-0210, facsimile 602-242-2513) or by electronic mail at steve_spangle@fws.gov.

SUPPLEMENTARY INFORMATION:

Public Comments Solicited

We intend that any final action resulting from this proposal will be as accurate and as effective as possible. Therefore, we solicit comments or suggestions from the public, other concerned governmental agencies, the scientific community, industry, or any other interested party concerning the proposed rule, the draft economic analysis, and the draft environmental assessment. On the basis of public comment, during the development of our final determination, we may find that areas proposed are not essential, are appropriate for exclusion under section 4(b)(2) of the Act, or not appropriate for exclusion. We particularly seek comments concerning:

(1) The reasons why any habitat should or should not be determined to be critical habitat as provided by section 4 of the Act, including whether the benefits of designation will outweigh any threats to the species resulting from designation;

(2) Specific information on the distribution of the southwestern willow flycatcher, the amount and distribution of the species' habitat, and which habitat is essential to the conservation of the species, and why;

(3) Land-use designations and current or planned activities in the subject area and their possible impacts on the species or proposed critical habitat;

(4) Whether our approach to listing or critical habitat designation could be improved or modified in any way to provide for greater public participation and understanding, or to assist us in accommodating public concerns and comments;

(5) Any foreseeable economic, environmental, or other impacts resulting from the proposed designation of critical habitat or coextensively from the proposed listing, and in particular, any impacts on small entities or families;

(6) Whether the economic analysis identifies all State and local costs. If not, what other costs should be included;

(7) Whether the economic analysis makes appropriate assumptions regarding current practices and likely regulatory changes imposed as a result of the listing of the species or the designation of critical habitat;

(8) Whether the economic analysis correctly assesses the effect on regional costs associated with land- and water-use controls that derive from the designation;

(9) Whether the designation will result in disproportionate economic impacts to specific areas that should be evaluated for possible exclusion from the final designation; and

(10) Whether the economic analysis appropriately identifies all costs that could result from the designation or coextensively from the listing.

Our practice is to make comments, including names and home addresses of respondents, available for public review during regular business hours. Individual respondents may request that we withhold their home addresses from the rulemaking record, which we will honor to the extent allowable by law. There also may be circumstances in which we would withhold from the rulemaking record a respondent's identity, as allowable by law. If you wish us to withhold your name and/or address, you must state this prominently at the beginning of your comment. However, we will not consider anonymous comments. We will make all submissions from organizations or businesses, and from individuals identifying themselves as representatives or officials of organizations or businesses, available for public inspection in their entirety. Comments and materials received will be available for public inspection, by appointment, during normal business hours at the above address.

If you wish to comment, you may submit your comments and materials concerning this proposal by any one of several methods (see ADDRESSES section). Please submit electronic comments in ASCII file format and avoid the use of special characters or any form of encryption. Please also include your name and return address in the body of your message. If you do not receive a confirmation from the system that we have received your Internet message, contact us directly by calling our Arizona Ecological Services Field Office at (602) 242-0210.

Background

We proposed to designate for the southwestern willow flycatcher 376,095 acres (ac) (152,124 hectares (ha)) [including approximately 1,556 stream miles (2,508 stream kilometers)] of critical habitat, which includes various stream segments and their associated riparian areas, not exceeding the 100-year floodplain or flood prone area, on Federal, State, Tribal, and private lands in southern California, southern Nevada, southwestern Utah, south-central Colorado, Arizona, and New Mexico. The proposed rule was published in the Federal Register (69 FR 60706) on October 12, 2004, pursuant to a court order.

On September 30, 2003, in response to a complaint brought by the Center for Biological Diversity, the U.S. District Court of New Mexico ordered us to propose critical habitat on or by September 30, 2004, and complete a final designation by September 30, 2005. Additional background information is available in the October 12, 2004, proposal to designate critical habitat.

Critical habitat identifies specific areas that are essential to the conservation of a listed species and that may require special management considerations or protection. If the proposed rule is made final, section 7 of the Act will prohibit adverse modification of critical habitat by any activity funded, authorized, or carried out by any Federal agency. Federal agencies proposing actions affecting areas designated as critical habitat must consult with us on the effects of their proposed actions, pursuant to section 7(a)(2) of the Act.

Section 4 of the Act requires that we consider economic and other relevant impacts prior to making a final decision on what areas to designate as critical habitat. We are announcing the availability of a draft economic analysis and draft environmental assessment for the proposal to designate certain areas as critical habitat for the southwestern willow flycatcher. We may revise the proposal, or its supporting documents, to incorporate or address new information received during the comment period. In particular, we may exclude an area from critical habitat if we determine that the benefits of excluding the area outweigh the benefits of including the area as critical habitat, provided such exclusion will not result in the extinction of the species.

Mapping Corrections for Proposed Units of Critical Habitat in Southern California and for the West Fork of the Little Colorado River

Following the publication of the proposed rule on October 12, 2004, we discovered that the coordinates for river reaches in Riverside, Orange, and San Diego Counties, California, were not correctly projected, causing a shift in the proposed critical habitat polygons of approximately 262 feet (ft) (80 meters (m)) to the west. We have since corrected the data projections to accurately reflect what we are considering for designation or exclusion from proposed critical habitat, and we provide the corrected start- and end-point coordinates below. Corrected Geographic Information System layers will be available at http://crithab.fws.gov. The figures provided for the total amount of critical habitat being proposed [376,095 acres (ac) (152,124 hectares (ha)) [including approximately 1,556 stream miles (mi) (2,508 stream kilometers (km)] remain accurate.

River | Start latitude | Start longitude | End latitude | End longitude
(5) Santa Ynez Management Unit:
Santa Ynez River | 34.5972867 | -120.1744120 | 34.6596711 | -120.4394929
(6) Santa Ana Management Unit:
Bear Creak | 34.1609651 | -117.0151013 | 34.2422080 | -116.9772861
Mill Creek | 34.0766521 | -116.8443877 | 34.0911038 | -117.1189177
Oak Glen Creek | 34.0386250 | -117.0646375 | 34.0483423 | -116.9394664
San Timoteo Wash | 34.0044045 | -117.1657189 | 34.0696468 | -117.4534886
Santa Ana River | 34.1513001 | -116.7350693 | 33.9673435 | -117.4534886
Waterman Creek | 34.2169729 | -117.2909403 | 34.1863475 | -117.2721230
Wilson Creek | 34.0102690 | -117.1074706 | 34.0386049 | -117.0646183
Yucaipa Creek | 34.0102933 | -117.1075071 | 34.0044047 | -117.1656724
(7) San Diego Management Unit:
Christianitos Creek | 33.4202297 | -117.5711573 | 33.4702954 | -117.5643999
San Mateo Creek | 33.4193065 | -117.5369622 | 33.3859065 | -117.5935937
San Onofre Creek | 33.3947622 | -117.5253484 | 33.3810809 | -117.5783356
(8) San Diego Management Unit:
Deluz Creek | 33.3631634 | -117.3233833 | 33.4283909 | -117.3215173
Las Flores Creek | 33.3386714 | -117.4116194 | 33.2917863 | -117.4657736
Las Pulgas Creek | 33.3612114 | -117.3905836 | 33.3386355 | -117.4115600
Pilgrim Creek | 33.2412419 | -117.3359159 | 33.3115680 | -117.2982166
San Luis Rey River | 33.2026115 | -117.3901467 | 33.2408111 | -116.7646876
Santa Margarita River | 33.4331091 | -117.1976515 | 33.2326142 | -117.4168773
Temecula Creek | 33.4982324 | -116.9773975 | 33.3637228 | -116.7592014
(9) San Diego/Salton Management Units:
Agua Hedionda Creek | 33.1568123 | -117.2241974 | 33.1394463 | -117.3150591
Agua Hedionda Lagoon | 33.1396776 | -117.3150857 | 33.1426464 | -117.3411351
Cuyamaca Reservoir | 32.9897875 | -116.5871030 | 32.9922459 | -116.5626160
San Dieguito River | 32.9771651 | -117.2515713 | 33.0907715 | -116.9646098
San Felipe Creek | 33.1455161 | -116.5448283 | 33.1848207 | -116.6238274
Santa Ysabel River | 33.1184844 | -116.7865468 | 33.0909411 | -116.9646660
Temescal Creek | 33.2308371 | -116.8251816 | 33.1203200 | -116.8528263
(10) San Diego Management Unit:
San Diego River | 32.8847273 | -116.8112102 | 32.8281759 | -117.0527358
(11) Owens Management Unit:
Owens River | 37.5877424 | -118.6992268 | 37.1354380 | -118.2419417
(12) Kern Management Unit:
Kern River—South Fork | 35.7176912 | -118.1808882 | 35.6629518 | -118.3705422
(13) Mohave Management Unit:
Deep Creek | 34.2871220 | -117.1269778 | 34.3404079 | -117.2457049
Holcomb Creek | 34.2870519 | -117.1270054 | 34.3049219 | -116.9646522
Mojave River | 34.4701947 | -117.2546695 | 34.5838662 | -117.3374023

In our proposed rule we inaccurately mapped the extent of essential habitat on the West Fork of the Little Colorado River in Arizona. We are correcting that error by adding a Service Road 113 (longitude −109.507567, latitude 33.959677) to a new endpoint approximately 170 ft (51.8 m) east of the Mt. Baldy Wilderness boundary (longitude −109.516209, latitude 33.958302).

Authority: The authority for this action is the Endangered Species Act of 1973 (16 U.S.C. 1531 et seq.).

Dated: April 20, 2005.
David P. Smith,
Acting Assistant Secretary for Fish and Wildlife and Parks.

[FR Doc. 05-8488 Filed 4-25-05; 1:06 pm]

BILLING CODE 4310-55-P